DEPARTMENT OF LABOR

Occupational Safety and Health Administration

[Docket No. OSHA-2009-0038]

Federal Advisory Council on Occupational Safety and Health (FACOSH)

AGENCY: Occupational Safety and Health Administration (OSHA), Labor.

ACTION: Request for nominations to serve on FACOSH; renewal of FACOSH charter.

SUMMARY: The Occupational Safety and Health Administration invites interested parties to submit nominations for membership on FACOSH, whose charter the Secretary of Labor renewed on November 6, 2009.

DATES: Nominations for FACOSH must be submitted (postmarked, sent, transmitted, received) by February 12, 2010.

ADDRESSES: You may submit nominations for FACOSH, identified by Docket No. OSHA-2009-0038, by any one of the following methods:

Electronically: Nominations, including attachments, may be submitted electronically at http://www.regulations.gov, the Federal eRulemaking Portal. Follow the online instructions for submitting nominations;

Facsimile: If the nomination, including attachments, does not exceed 10 pages, you may fax it to the OSHA Docket Office at (202) 693-1648;

Mail, express delivery, hand delivery, messenger or courier service: Submit three copies of nominations to the OSHA Docket Office, Docket No. OSHA-2009-0038, Room N-2625, U.S. Department of Labor, 200 Constitution Avenue, NW., Washington, DC 20210; telephone (202) 693-2350 (TTY number (877) 889-5627). Deliveries (hand, express mail, messenger and courier service) are accepted during the Department of Labor's and OSHA Docket Office's normal business hours, 8:15 a.m.-4:45 p.m., e.t.

Instructions: All nominations for FACOSH must include the agency name and docket number for this Federal Register notice (Docket No. OSHA-2009-0038). Because of security-related procedures, submitting nominations by regular mail may result in a significant delay in their receipt. Please contact the OSHA Docket Office, at the address above, for information about security procedures for submitting nominations by hand delivery, express delivery, and messenger or courier service. For additional information on submitting nominations, see the “Public Participation” heading in the SUPPLEMENTARY INFORMATION section.

All submissions in response to this Federal Register notice, including personal information provided, will be posted without change at http://www.regulations.gov. Therefore, OSHA cautions interested parties about submitting personal information such as social security numbers and birth dates.

Docket: To read or download submissions in response to this Federal Register notice, go to Docket No. OSHA-2009-0038 at http://www.regulations.gov. All documents in the docket are listed in the http://www.regulations.gov index. Although listed in the index, some documents (e.g., copyrighted material) are not publicly available to read or download through the Web page. All submissions, including copyrighted material, are available for inspection and copying at the OSHA Docket Office at the address above.

FOR FURTHER INFORMATION CONTACT: For press inquiries: Ms. Jennifer Ashley, OSHA, Office of Communications, U.S. Department of Labor, Room N-3647, 200 Constitution Avenue, NW., Washington, DC 20210; telephone (202) 693-1999.

For general information: Mr. Francis Yebesi, OSHA, Office of Federal Agency Programs, U.S. Department of Labor, Room N-3622, 200 Constitution Avenue, NW., Washington, DC 20210; telephone (202) 693-2122; e-mail ofap@dol.gov.

SUPPLEMENTARY INFORMATION:

Request for Nominations To Serve on FACOSH

The Assistant Secretary of Labor for Occupational Safety and Health (Assistant Secretary) invites interested parties to submit nominations for membership on FACOSH.

FACOSH is authorized to advise the Secretary of Labor (Secretary) on all matters relating to the occupational safety and health of federal employees (Occupational Safety and Health Act of 1970 (29 U.S.C. 668), 5 U.S.C. 7902, Executive Orders 12196 and 13511). This includes providing advice on how to reduce and keep to a minimum the number of injuries and illnesses in the federal workforce and how to encourage the establishment and maintenance of effective occupational safety and health programs in each Federal agency.

FACOSH is comprised of 16 members, who the Secretary appoints for terms not to exceed three years. The Assistant Secretary, who chairs FACOSH, is seeking nominations both for vacancies that occurred during calendar year (CY) 2009 and that will occur in CY 2010. To provide continuity, the terms of FACOSH members are staggered so that the terms of five to six members expire each year. The Secretary will make five two-year appointments to fill the CY 2009 vacancies, and five three-year appointments to fill the CY 2010 vacancies.

The composition of FACOSH membership and the number of new members to be appointed are:

• Eight members are management representatives from Federal agencies. Five appointments will be made, including two appointments for three-year terms and three appointments for two-year terms; and

• Eight members are representatives of labor organizations representing federal employees. Five appointments will be made, including three appointments for three-year terms and two appointments for two-year terms.

FACOSH members serve at the pleasure of the Secretary unless the member is no longer qualified to serve, resigns, or is removed by the Secretary. The Secretary may appoint FACOSH members to successive terms. FACOSH usually meets between two to six times annually.

Interested parties may nominate one or more qualified persons for membership. Others are invited and encouraged to submit endorsements in support of a nominee. Nominations must include the following information:

• Nominee's resume or curriculum vitae, including contact information, current position, and membership on FACOSH and other relevant organizations;

• Category of membership for which the nominee is qualified to serve;

• A summary of the nominee's background, experience and qualifications for membership;

• Articles or other documents the nominee has authored that indicate their knowledge, experience, and expertise in occupational safety and health, particularly as it pertains to the federal workforce;

• A statement attesting that that the individual is aware of the nomination and has no apparent conflicts of interest that would preclude membership on FACOSH; and

• A written commitment that the nominee will attend and participate in FACOSH meetings regularly throughout the term.

The Secretary will appoint FACOSH members based upon criteria including, but not limited to, the nominee's level of responsibility for occupational safety and health matters involving the federal workforce, experience and competence in occupational safety and health, and willingness and ability to regularly and fully participate in FACOSH meetings. Federal agency management nominees who serve as their agency's Designated Agency Safety and Health Official and labor nominees who are responsible for federal employee occupational safety and health matters within their respective organizations are preferred as management and labor members, respectively.

The information received through the nomination process, along with other relevant sources of information, will assist the Secretary in making appointments to FACOSH. In selecting FACOSH members, the Secretary will consider individuals nominated in response to this Federal Register notice, as well as other qualified individuals. OSHA will publish a list of the new FACOSH members in the Federal Register.

Public Participation—Submission of Nominations and Access to Docket

Interested parties may submit nominations and supplemental materials by any one of the methods listed in the ADDRESSES section. All comments, attachments and other materials must identify the agency name and the OSHA docket number for this Federal Register notice (Docket No. OSHA 2009-0038). You may supplement electronic nominations by uploading document files electronically. If, instead, you wish to submit hard copies of any additional material in reference to an electronic submission, you must submit three copies to the OSHA Docket Office following the instructions in the ADDRESSES section. The additional material must clearly identify your electronic submission by name, date, and docket number so OSHA can attach it to your nomination.

Because of security-related procedures, the use of regular mail may result in a significant delay in the receipt of nominations. For information about security procedures concerning the delivery of materials by hand, express delivery, messenger or courier service, please contact the OSHA Docket Office (see ADDRESSES section).

Submissions in response to this Federal Register notice are posted without change at http://www.regulations.gov. Therefore, OSHA cautions interested parties about submitting personal information such as social security numbers and birth dates. Although all submissions are listed in the http://www.regulations.gov index, some documents (e.g., copyrighted material) are not publicly available to read or download through the Web page. All submissions, including copyrighted material, are available for inspection and copying at the OSHA Docket Office.

Information on using the http://www.regulations.gov Web page to make submissions and to access the docket and exhibits is available at the Web page's Help link. Contact the OSHA Docket Office for information about materials not available through the Web page and for assistance in locating submissions and other documents in the docket.

Electronic copies of this Federal Register notice are available at http://www.regulations.gov. This notice, as well as news releases and other relevant information, is available at OSHA's Web page at http://www.osha.gov.

Charter Renewal

Section 7902 of Title 5 of the U.S. Code provides that the President may establish, by executive order, a safety council (FACOSH) composed of representatives of Federal agencies and labor organizations representing Federal employees to serve as an advisory body to the Secretary on issues involving the occupational safety and health of the federal workforce. On September 29, 2009, President Barack Obama signed Executive Order 13511 authorizing the continuance of FACOSH for two another years, until September 30, 2011 (5 U.S.C. 7902).

The Federal Advisory Committee Act (FACA) requires that, upon the continuance or renewal of an advisory committee, a new charter be filed (5 U.S.C. App. § 14). Pursuant to FACA and its implementing regulations (41 CFR Part 102-3), on November 6, 2009, the Secretary renewed the FACOSH charter, which expired on September 30, 2009. The new FACOSH charter will expire on September 30, 2011, unless the Secretary terminates it prior to that date.

Authority and Signature: Jordan Barab, Acting Assistant Secretary of Labor for Occupational Safety and Health, directed the preparation of this notice under the authority granted by section 19 of the Occupational Safety and Health Act of 1970 (29 U.S.C. 668), 5 U.S.C. 7902, the Federal Advisory Committee Act (5 U.S.C. App), Executive Order 13511, 29 CFR Part 1960 (Basic Program Elements of for Federal Employee Occupational Safety and Health Programs), 41 CFR Part 102-3, and Secretary of Labor's Order 5-2007 (72 FR 31160).

Signed at Washington, DC, this 8th day of December 2009.
Jordan Barab,
Acting Assistant Secretary of Labor for Occupational Safety and Health.

[FR Doc. E9-29675 Filed 12-11-09; 8:45 am]

BILLING CODE 4510-26-P